DEPARTMENT OF COMMERCE

National Oceanic and Atmospheric Administration

[RTID 0648-XB219]

Endangered Species; File Nos. 25696 and 25716

AGENCY: National Marine Fisheries Service (NMFS), National Oceanic and Atmospheric Administration (NOAA), Commerce.

ACTION: Notice; receipt of application.

SUMMARY: Notice is hereby given that Inwater Research Group, Inc., 4160 NE Hyline Dr., Jensen Beach, FL 34957 (Responsible Party: Michael Bresette) and the NMFS Northeast Fisheries Science Center (NEFSC), 166 Water Street, Woods Hole, MA 02543 (Responsible Party: Jon Hare), have applied in due form for a permit to take green (Chelonia mydas), hawksbill (Eretmochelys imbricata), Kemp's ridley (Lepidochelys kempii), leatherback (Dermochelys coriacea), loggerhead (Caretta caretta), and unidentified hardshell sea turtles for purposes of scientific research.

DATES: Written, telefaxed, or email comments must be received on or before August 9, 2021.

ADDRESSES: The application and related documents are available for review by selecting “Records Open for Public Comment” from the “Features” box on the Applications and Permits for Protected Species (APPS) home page, https://apps.nmfs.noaa.gov, and then selecting File No. 25696 or 25716 from the list of available applications. These documents are also available upon written request via email to NMFS.Pr1Comments@noaa.gov.

Written comments on this application should be submitted via email to NMFS.Pr1Comments@noaa.gov. Please include the relevant File No. in the subject line of the email comment.

Those individuals requesting a public hearing should submit a written request via email to NMFS.Pr1Comments@noaa.gov. The request should set forth the specific reasons why a hearing on this application would be appropriate.

FOR FURTHER INFORMATION CONTACT: Amy Hapeman or Jordan Rutland, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

File No. 25696: The applicant proposes to study the habitat preference, species abundance, size frequencies, and fibropapillomatosis rates of sea turtles inhabiting inshore lagoons and nearshore reefs between Indian River and Miami-Dade Counties in southeastern Florida. Annually up to 200 green, 25 loggerhead, 10 Kemp's ridley and 10 hawksbill sea turtles would be counted and captured by hand, dip net, or tangle net. Captured turtles would be measured, weighed, temporarily marked, flipper tagged, and passive integrated transponder (PIT) tagged, photographed, and skin and blood sampled prior to release. In addition, all loggerhead sea turtles would receive a sonic or satellite transmitter and all green sea turtles would undergo gastric lavage prior to release. A subset of greens would be transported to a local facility for imaging and/or receive a transmitter prior to their return to the wild. Another 1,350 green, 100 loggerhead, 75 hawksbill, and 20 Kemp's ridley sea turtles may be pursued during unsuccessful capture attempts annually. The permit would be valid for 10 years.

File No. 25716: The NEFSC proposes to continue studying sea turtles legally bycaught within commercial fisheries operating in the Northwest Atlantic Ocean. The objective is to monitor the take of ESA listed sea turtle species in observed commercial fisheries and to collect data to help estimate total bycatch. Up to 50 loggerhead, 10 Kemp's ridley, 10 green, 20 leatherback, and 20 unidentified sea turtles would be photographed, measured, weighed, flipper tagged and PIT tagged, and skin biopsied prior to release annually. Carcasses, tissues or parts also may be salvaged from dead sea turtles. The permit would be valid for 5 years.

Dated: July 2, 2021.
Julia Marie Harrison,
Chief, Permits and Conservation Division, Office of Protected Resources, National Marine Fisheries Service.

[FR Doc. 2021-14570 Filed 7-7-21; 8:45 am]

BILLING CODE 3510-22-P